DEPARTMENT OF COMMERCE

International Trade Administration

National Institutes of Health; Notice of Decision on Application for Duty-Free Entry of Scientific Instrument

This decision is made pursuant to Section 6(c) of the Educational, Scientific, and Cultural Materials Importation Act of 1966 (Pub. L. 89-651, 80 Stat. 897; 15 CFR part 301). Related records can be viewed between 8:30 am and 5:00 pm in Room 4211, U.S. Department of Commerce, 14th and Constitution Avenue, N.W., Washington, D.C.

Docket Number: 99-028. Applicant: National Institutes of Health, Bethesda, MD 20892-4094. Instrument: Robot and Microplate Filler with accessories, Models Q-BOT and Q-Fill. Manufacturer: GENETIX, United Kingdom. Intended Use: See notice at 64 FR 70213, December 16, 1999.

Comments: None received. Decision: Approved. No instrument of equivalent scientific value to the foreign instrument, for such purposes as it is intended to be used, is being manufactured in the United States. Reasons: The foreign instrument provides a unique multi-tasking robot for selecting recombinant DNA inserts from neural tissue with: (1) a pneumatic picking head for sampling 3500 colonies per hour, (2) replication of plates (96 or 384 wells) to distribute clones to others, (3) ability to create high density arrays of bacteria on nylon filters and (4) a re-arraying package. A university-based genomic research project advised February 8, 2000 that (1) these capabilities are pertinent to the applicant's intended purpose and (2) it knows of no domestic instrument or apparatus of equivalent scientific value to the foreign instrument for the applicant's intended use.

We know of no other instrument or apparatus of equivalent scientific value to the foreign instrument which is being manufactured in the United States.

Frank W. Creel,
Director, Statutory Import Programs Staff.

[FR Doc. 00-4917 Filed 2-29-00; 8:45 am]

BILLING CODE 3510-DS-P